DEPARTMENT OF TRANSPORTATION

Federal Aviation Administration

14 CFR Part 71

[Docket No. FAA-2021-0226; Airspace Docket No. 20-AAL-2]

RIN 2120-AA66

Modification of Class D and Class E Airspace, and Removal of Class E Airspace; Kodiak, AK

AGENCY: Federal Aviation Administration (FAA), DOT.

ACTION: Final rule.

SUMMARY: This action modifies the Class D airspace at Kodiak Airport, Kodiak, AK. This action also removes the Class E airspace designated as an extension to a Class D or Class E surface area, east of the airport. Further, this action increases the size of the Class E airspace extending upward from 700 feet above the surface. Finally, this action updates the geographic coordinates in the third line of the Class D text header and updates the term “Airport/Facility Directory” to “Chart Supplement” in the last sentence of the Class D airspace description.

DATES: Effective 0901 UTC, December 2, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fr.inspection@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class D and Class E airspace, and removes Class E airspace at Kodiak Airport, Kodiak, AK, to ensure the safety and management of instrument flight rules (IFR) operations at the airport.

History

The FAA published a notice of proposed rulemaking in the Federal Register (86 FR 29967; June 4, 2021) for Docket No. FAA-2021-0226 to modify the Class D and Class E airspace, and remove Class E airspace at Kodiak Airport, Kodiak, AK. Interested parties were invited to participate in this rulemaking effort by submitting written comments on the proposal to the FAA. No comments were received.

Class D, E4, and E5 airspace designations are published in paragraphs 5000, 6004, and 6005, respectively, of FAA Order 7400.11E, dated July 21, 2020, and effective September 15, 2020, which is incorporated by reference in 14 CFR 71.1. The Class D and E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to 14 CFR part 71 modifies the Class D airspace at Kodiak Airport, Kodiak, AK. The Class D radius is increased from 3.1 miles to 4.4 miles, excluding the mountainous terrain west and northwest of the airport and the airspace around Trident Basin Airport.

Additionally, this action removes the Class E airspace, designated as an extension to a Class D or Class E surface area, east of the airport. The airspace is no longer required to contain arriving IFR aircraft.

Further, this action modifies the Class E airspace extending upward from 700 feet above the surface, by increasing the size of the area east of the airport to properly contain IFR aircraft performing the procedure turn maneuver for the VOR RWY 26 approach. Lastly, this action updates the geographic coordinates in the third line of the Class D text header to “lat. 57°44′59″ N, long. 152°29′38″ W” and updates the term “Airport/Facility Directory” to “Chart Supplement” in the last sentence of the Class D airspace description.

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

AAL AK D Kodiak, AK [Amended]

Kodiak Airport, AK

(Lat. 57°44′59″ N, long. 152°29′38″ W)

Trident Basin Airport, AK

(Lat. 57°46′51″ N, long. 152°23′29″ W)

That airspace extending upward from the surface to and including 2,600 feet MSL within a 4.4-mile radius of the airport, and within 1 mile each side of the 091° bearing from the airport, extending from the 4.4-mile radius to 6.1 miles east of Kodiak Airport, excluding that airspace west and northwest of a line beginning at the 228° bearing from Kodiak Airport, to the 308° bearing at 2.9 miles from Kodiak Airport, to the 012° bearing from Kodiak Airport, and excluding that airspace from the 024° bearing from the Kodiak Airport to the 325° bearing at 1.0 mile from Trident Basin Airport, and excluding that airspace within a 1.0-mile radius of Trident Basin Airport from the 325° bearing from Trident Basin Airport counterclockwise to the 250° bearing from Trident Basin airport, and within a 0.3-mile radius of Trident Basin Airport from the 250° bearing from Trident Basin Airport counterclockwise to the 119° bearing from the Trident Basin Airport, and from the 119° bearing at 0.3 miles from Trident Basin Airport to the 072° bearing at 4.4 miles from Kodiak Airport. This Class D airspace area is effective during the specific dates and times established in advance by a Notice to Airmen. The effective date and time will thereafter be continuously published in the Chart Supplement.

Paragraph 6004 Class E Airspace Areas Designated as an Extension to a Class D or Class E Surface Area.

* * * * *

AAL AK E4 Kodiak, AK [Removed]

Kodiak Airport, AK

(Lat. 57°45′00″ N, long. 152°29′38″ W)

Paragraph 6005 Class E Airspace Areas Extending Upward From 700 feet or More Above the Surface of the Earth.

* * * * *

AAL AK E5 Kodiak, AK [Amended]

Kodiak Airport, AK

(Lat. 57°44′59″ N, long. 152°29′38″ W)

That airspace extending upward from 700 feet above the surface within a 6.9-mile radius of the airport, and within 8 miles north and 4.1 miles south of the 071° bearing from the airport, extending from the 6.9-mile radius and extending from 5.2 miles east of the airport to 21.2 miles east of the airport, excluding that airspace extending beyond 12 miles of the shoreline; and that airspace extending upward from 1,200 feet above the surface within a 73-mile radius of the Kodiak Airport, AK, excluding that airspace extending beyond 12 miles of the shoreline.

Issued in Des Moines, Washington, on August 2, 2021.
B.G. Chew,
Acting Group Manager, Operations Support Group, Western Service Center.

[FR Doc. 2021-16827 Filed 8-9-21; 8:45 am]

BILLING CODE 4910-13-P